DEPARTMENT OF THE TREASURY

Office of Thrift Supervision

[AC-13: OTS Nos. 15220 and H-4426]

Beacon Federal, East Syracuse, NY, and Beacon Federal Bancorp., Inc., East Syracuse, NY; Approval of Conversion Application

Notice is hereby given that on August 10, 2007, the Office of Thrift Supervision approved the application of Beacon Federal, East Syracuse, New York, to convert to the stock form of organization. Copies of the application are available for inspection by appointment (phone number: 202-906-5922 or e-mail: Public.Info@OTS.Treas.gov) at the Public Reading Room, 1700 G Street, NW., Washington, DC 20552, and the OTS Northeast Regional Office, Harborside Financial Center, Plaza Five, Suite 1600, Jersey City, New Jersey 07311.

Dated: August 14, 2007.
By the Office of Thrift Supervision.
Sandra E. Evans,
Legal Information Assistant.

[FR Doc. 07-4039 Filed 8-17-07; 8:45 am]

BILLING CODE 6720-01-M